FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transaction Granted Early Termination
ET Date | Trans No. | ET req status | Party name
14-DEC-09 | 20100215 | G | Corsair III Financial Services.
|  |  | Capital Partners, LP.
|  | G | East West Bancorp, Inc.
|  | G | East West Bancorp, Inc.
16-DEC-09 | 20100049 | G | Cisco Systems, Inc.
|  | G | Starent Networks, Corp.
|  | G | Starent Networks, Corp.
| 20100155 | G | JDA Software Group, Inc.
|  | G | i2 Technologies, Inc.
|  | G | i2 Technologies, Inc.
| 20100183 | G | Blackstone Capital Partners V L.P.
|  | G | Birds Eye Holdings LLC.
|  | G | Birds Eye Foods, Inc.
17-DEC-09 | 20100160 | G | Applied Materials, Inc.
|  | G | Semitool, Inc.
|  | G | Semitool, Inc.
| 20100161 | G | Goodrich Corporation.
|  | G | J.F. Lehman Equity.
|  |  | Investors II, L.P.
|  | G | AIS Global Holdings LLC.
18-DEC-09 | 20100213 | G | TowerBrook Investors III, L.P.
|  | G | Mr. Sumner Redstone.
|  | G | National Amusements, Inc.
|  | G | Quincy Amusements Inc.
| 20100239 | G | Linsalata Capital Partners.
|  |  | Fund V, L.P.
|  | G | James J Gervato.
|  | G | Eatem Corporation.
| 20100240 | G | Linsalata Capital Partners.
|  |  | Fund V, L.P.
|  | G | Robert G Buono, Sr.
|  | G | Eatem Corporation.
| 20100250 | G | The Resolute Fund II, L.P.
|  | G | Zest Anchors, Inc.
|  | G | Zest Anchors, Inc.
22-DEC-09 | 20100095 | G | Agrium Inc.
|  | G | CF Industries Holdings, Inc.
|  | G | CF Industries Holdings, Inc.
| 20100229 | G | Hewlett-Packard Company.
|  | G | 3Com Corporation.
|  | G | 3Com Corporation.
| 20100256 | G | Geokinetics Inc.
|  | G | Petroleum Geo-Services, ASA.
|  | G | PGS Onshore, Inc.
23-DEC-09 | 20100094 | G | Agrium Inc.
|  | G | Terra Industries Inc.
|  | G | Terra Industries Inc.
24-DEC-09 | 20100223 | G | EMC Corporation.
|  | G | Jon and Tara Darbyshire.
|  | G | Archer Technologies, LLC.
28-DEC-09 | 20090714 | G | Amcor Limited.
|  | G | Rio Tinto plc/Rio Tinto Limited.
|  | G | Alcan Packaging Puerto Rico Inc.
| 20100137 | G | Daiichi Sankyo Company, Limited.
|  | G | PharmaForce, Inc.
|  | G | PharmaForce, Inc.
29-DEC-09 | 20100247 | G | AstraZeneca plc.
|  | G | Targacept, Inc.
|  | G | Targacept, Inc.
| 20100264 | G | Eugenie Patri Sebastien EPS, SA.
|  | G | Anthony Soave.
|  | G | Double Eagle Distributing Company.
|  | G | CITY Beverage-Illinois L.L.C.
| 20100266 | G | United Technologies Corporation.
|  | G | Clipper Windpower Plc.
|  | G | Clipper Windpower Plc.
| 20100267 | G | De Facto 1730 Limited.
|  | G | Iridium Holding Limited.
|  | G | Iridium Holding Limited.
| 20100286 | G | Platinum Equity Capital.
|  | G | Partners II, L.P.
|  | G | Genmar Holdings, Inc.
|  | G | Genmar Holdings, Inc.
30-DEC-09 | 20100270 | Y | Trilantic Capital Partners IV L.P.
|  | Y | Macquarie Group Limited.
|  | Y | Microstar Global Asset Management LLC.
|  | Y | Microstar Logistics LLC.
| 20100274 | G | EQT V (No. 1) Limited Partnership.
|  | G | Springer Science + Business Media S.A.
|  | G | Springer Science + Business Media S.A.
05-JAN-10 | 20100263 | G | SPO Partners II, LP.
|  | G | Greene Group, Inc.
|  | G | Ready Mix USA, LLC.
06-JAN-10 | 20100272 | G | Valero Energy Corporation.
|  | G | ASA Ethanol Holdings, LLC.
|  | G | ASA Ethanol Holdings, LLC.
| 20100276 | G | Diamond Castle Partners IV, L.P.
|  | G | CHS Private Equity V LP.
|  | G | Suture Express Holdings, Inc.
| 20100295 | G | Valero Energy Corporation.
|  | G | Renew Energy LLC.
|  | G | Renew Energy LLC.
07-JAN-10 | 20100273 | G | Celgene Corporation.
|  | G | Gloucester Pharmaceuticals, Inc.
|  | G | Gloucester Pharmaceuticals, Inc.
| 20100299 | G | Overture Acquisition Corporation.
|  | G | David Smilow.
|  | G | JNL Bermuda LLC.
08-JAN-10 | 20100252 | G | Telefonaktiebolaget LM Ericsson.
|  | G | Nortel Networks Corporation.
|  | G | Nortel Networks Corporation.
| 20100278 | G | Kinder Morgan Energy Partners, LP.
|  | G | M12 LLC.
|  | G | USD Commercial Services LLC.
|  | G | Baltimore Transload Terminal LLC.
|  | G | Dallas Fort Worth Rail Terminal LLC.
|  | G | Linden Transload Terminal LLC.
| 20100279 | G | Kinder Morgan Energy Partners, L.P.
|  | G | The Goldman Sachs Group, Inc.
|  | G | USD Commercial Services LLC.
|  | G | Linden Transload Terminal LLC.
|  | G | Dallas Fort Worth Rail Terminal LLC.
|  | G | Baltimore Transload Terminal LLC.
| 20100281 | G | ArcLight Energy Partners Fund IV, LP.
|  | G | United States Power Fund, LP.
|  | G | Hamakua A. LLC.
|  | G | BR Hamakua, LLC.
|  | G | BR Landing, LLC.
|  | G | QUIXX Mustang Station, LLC.
|  | G | GPP Investors 1, LLC.
|  | G | LSP-Denver City, LLC.
|  | G | EIF Neptune, LLC.
|  | G | Crockett Holdings, LLC.
|  | G | Northbrook Texas, LLC.
|  | G | EIF Borger Holdings, LLC.
| 20100291 | G | Legacy Hospital Partners (Holdings), LLC.
|  | G | The Wilson N. Jones Memorial Hospital.
|  | G | Wilson N. Jones Medical Center and Affiliates.
| 20100303 | G | Windstream Corporation.
|  | G | Iowa Telecommunications Services, Inc.
|  | G | Iowa Telecommunications Services, Inc.
| 20100314 | G | Total S.A.
|  | G | Chesapeake Energy Corporation.
|  | G | Chesapeake Exploration LLC.

For Further Information Contact: Sandra M. Peay, Contact Representative or Renee Hallman, Contact Representative, Federal Trade Commission, Premerger Notification Office, Bureau Of Competition, Room H-303, Washington, DC 20580, (202) 326-3100.

By Direction of the Commission.
Donald S. Clark,
Secretary.

[FR Doc. 2010-1564 Filed 1-27-10; 8:45 am]

BILLING CODE 6750-01-M